DEPARTMENT OF THE INTERIOR

National Park Service

[NPS-WASO-NAGPRA-20967; PPWOCRADN0-PCU00RP14.R50000]

Notice of Inventory Completion: Michigan State Police, Jackson Post, Jackson, MI

AGENCY: National Park Service, Interior.

ACTION: Notice.

SUMMARY: The Michigan State Police, Jackson Post MSP13 has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Michigan State Police, Jackson Post. If no additional requestors come forward, transfer of control of the human remains to the Indian tribes or Native Hawaiian organizations stated in this notice may proceed.

DATES: Representatives of any Indian tribe or Native Hawaiian organization not identified in this notice that wish to request transfer of control of these human remains should submit a written request with information in support of the request to the Michigan State Police, Jackson Post at the address in this notice by June 10, 2016.

ADDRESSES: D/Sgt. Cyndee Gochanour, Michigan State Police, Jackson Post #13, 3401 Cooper Street, Jackson, MI 49201, telephone (517) 780-4580, email GochanourC@michigan.gov.

SUPPLEMENTARY INFORMATION: Notice is here given in accordance with the Native American Graves Protection and Repatriation Act (NAGPRA), 25 U.S.C. 3003, of the completion of an inventory of human remains under the control of the Michigan State Police, Jackson Post. The human remains were removed from South Meridian Road, Pittsford Township, Hillsdale County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Michigan State University Anthropology Department on behalf of the Michigan State Police, Jackson Post, in consultation with the Citizen Potawatomi Nation, Oklahoma; Little Traverse Bay Bands of Odawa Indians, Michigan; Nottawaseppi Huron Band of the Potawatomi, Michigan (previously listed as the Huron Potawatomi, Inc); and the Pokagon Band of Potawatomi Indians, Michigan and Indiana.

The following tribes were invited to consult, but did not participate: Absentee-Shawnee Tribe of Indians of Oklahoma; Bad River Band of Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana); Delaware Nation, Oklahoma; Delaware Tribe of Indians; Eastern Shawnee Tribe of Oklahoma; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Match-e-be-nash-she-wish Band of Pottawatomi Indians of Michigan; Minnesota Chippewa Tribe, Minnesota (Six component reservations: Bois Forte Band (Nett Lake); Fond du Lac Band; Grand Portage Band; Leech Lake Band; Mille Lacs Band; White Earth Band); Ottawa Tribe of Oklahoma; Prairie Band Potawatomi Nation (previously listed as the Prairie Band of Potawatomi Nation, Kansas); Quechan Tribe of the Fort Yuma Indian Reservation, California & Arizona; Red Cliff Band of Lake Superior Chippewa Indians of Wisconsin; Red Lake Band of Chippewa Indians, Minnesota; Saginaw Chippewa Indian Tribe of Michigan; St. Croix Chippewa Indians of Wisconsin; Sault Ste. Marie Tribe of Chippewa Indians, Michigan; Seneca Nation of Indians (previously listed as the Seneca Nation of New York); Seneca-Cayuga Nation (previously listed as the Seneca-Cayuga Tribe of Oklahoma); Shawnee Tribe; Sokaogon Chippewa Community, Wisconsin; Tonawanda Band of Seneca (previously listed as the Tonawanda Band of Seneca Indians of New York); Turtle Mountain Band of Chippewa Indians of North Dakota; and the Wyandotte Nation (all tribes listed in this section are hereafter referred to as “The Consulted and Invited Tribes”).

History and Description of the Remains

On November 19, 2015, human remains representing, at minimum, one individual were removed from a quarry located on South Meridian Road, Pittsford Township, Hillsdale County, MI, while a quarry worker was excavating gravel. The quarry worker contacted his boss and the landowner, who in turn contacted the Michigan State Police, Jackson Post (complaint 13-7550-15). The Michigan State University, Anthropology Department completed a preliminary analysis of the human remains through photographs sent by cell phone. The human remains were believed to be Native American. Michigan State University, Anthropology Department arrived at the venue and assisted in the recovery of additional skeletal remains. Michigan State University, Anthropology Department took possession of the human remains for further analysis and confirmed the human remains were one Native American male. No known individuals were identified. No associated funerary objects are present.

The human remains are consistent with that of a prehistoric Great Lake Native American, gracile male, suggested age range of 14-23. No lines of evidence for present-day cultural affiliation where identifiable. The skeletal elements present include: A mostly complete cranium, the proximal half of a right femur, the distal half of a right femur (both elements are consistent and may have fit together prior to taphonomic changes), a distal half of the left humerus, two left fibular fragments, T6 through T12, and several small cranial fragments.

Determinations Made by the Michigan State Police, Jackson Post

Officials of the Michigan State Police, Jackson post have determined that:

• Pursuant to 25 U.S.C. 3001(9), the human remains described in this notice are Native American based on the report received from Michigan State University Anthropology Department.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgement of Indian Claims Commission or the Court of Federal Claims, or Treaties, Acts of Congress, or Executive Orders the land from which the Native American human remains were removed is the aboriginal land of The Consulted and Invited Tribes.

• Pursuant to 43 CFR 10.11(c)(1), the disposition of the human remains may be to The Consulted and Invited Tribes.

Additional Requestors and Disposition

Representatives of any Indian tribe or Native Hawaiian organization not identified in this notice that wish to request transfer of control of these human remains should submit a written request with information in support of the request to: D/Sgt. Cyndee Gochanour, Michigan State Police, Jackson Post #13, 3401 Cooper Street, Jackson, MI 49201, telephone (517) 780-4580, email GochanourC@michigan.gov, by June 10, 2016. After that date, if no additional requestors have come forward, transfer of control of the human remains may be to The Consulted and Invited Tribes.

The Michigan State Police, Jackson Post is responsible for notifying The Consulted and Invited Tribes that this notice has published.

Dated: April 27, 2016.
Melanie O'Brien,
Manager, National NAGPRA Program.

[FR Doc. 2016-11086 Filed 5-10-16; 8:45 am]

BILLING CODE 4312-50-P